DEPARTMENT OF VETERANS AFFAIRS

[OMB Control No. 2900-NEW]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before August 21, 2000.

FOR FURTHER INFORMATION OR A COPY OF THE SUBMISSION CONTACT: Denise McLamb, Information Management Service (045A4), Department of Veterans Affairs, 810 Vermont Avenue, NW., Washington, DC 20420, (202) 273-8030 or FAX (202) 273-5981. Please refer to “OMB Control No. 2900-NEW.”

SUPPLEMENTARY INFORMATION: Title: Study of Individuals at Risk for Stress Related Illnesses, VA Form 10-21036(NR).

OMB Control Number: 2900-NEW.

Type of Review: New collection.

Abstract: This survey collection is intended for the development of “psychological and biomedical measurements for early identification of individuals at risk for stress-related illnesses.” VA proposes to design and validate a psychometrically sound inventory of psychosocial risk and resilience factors that will be empirically related to self-reported physical and mental health and health-related quality of life in Gulf War veterans. The inventory will include assessments of multiple dimensions of war-zone stress, predeployment vulnerabilities, and reentry-postwar circumstances.

An agency may not conduct or sponsor, and a person is not required to respond to a collection of information unless it displays a currently valid OMB control number. The Federal Register Notice with a 60-day comment period soliciting comments on this collection of information was published on April 11, 2000, at page 19434.

Affected Public: Individuals or households.

Estimated Annual Burden: 525 hours.

Estimated Average Burden Per Respondent: 45 minutes.

Frequency of Response: One time.

Estimated Number of Respondents: 700.

Send comments and recommendations concerning any aspect of the information collection to VA's OMB Desk Officer, Allison Eydt, OMB Human Resources and Housing Branch, New Executive Office Building, Room 10235, Washington, DC 20503 (202) 395-4650. Please refer to “OMB Control No. 2900-NEW” in any correspondence.

Dated: June 30, 2000.
By direction of the Secretary.
Donald L. Neilson,
Director, Information Management Service.

[FR Doc. 00-18286 Filed 7-19-00; 8:45 am]

BILLING CODE 8320-01-P